DEPARTMENT OF TRANSPORTATION

Federal Aviation Administration

14 CFR Part 73

[Docket No. FAA-2009-0490; Airspace Docket No. 09-AWP-3]

RIN 2120-AA66

Establishment of Restricted Area R-2502A; Fort Irwin, CA

AGENCY: Federal Aviation Administration (FAA), DOT.

ACTION: Final rule.

SUMMARY: This action establishes a restricted area (R-2502A) at Fort Irwin, CA, as part of a Department of the Army initiative at the National Training Center (NTC). The NTC is being expanded to meet the critical need of the Army for additional training land and airspace suitable for maneuvering large numbers of military personnel and equipment. Additionally, the Silver military operation area (MOA) in the vicinity of the NTC Complex has been modified as part of this initiative. Unlike restricted areas, which are designated under Title 14 Code of Federal Regulations (14 CFR) part 73, MOAs are not rulemaking airspace actions. However, since the R-2502A will infringe on the Silver MOA, the FAA is including a description of the Silver MOA change in this rule. The MOA change described here was published in the National Flight Data Digest (NFDD). The Army requested these airspace changes to provide the additional special use airspace (SUA) above the expanded ground maneuver area to facilitate realistic combat training at the NTC.

DATES: Effective Date: 0901 UTC, December 17, 2009.

FOR FURTHER INFORMATION CONTACT: Ken McElroy, Airspace and Rules Group, Office of System Operations Airspace and AIM, Federal Aviation Administration, 800 Independence Avenue, SW., Washington, DC 20591; telephone: (202) 267-8783.

SUPPLEMENTARY INFORMATION:

History

On July 13, 2009, the FAA published in the Federal Register a notice of proposed rulemaking to establish Restricted Area R-2502A, Fort Irwin, CA (74 FR 33382). Interested parties were invited to participate in this rulemaking effort by submitting written comments on the proposal. No comments were received during the comment period.

Section 73.25 of 14 CFR Part 73 was republished in FAA Order 7400.8R, dated February 5, 2009.

Military Operation Area (MOA)

Restricted areas are regulatory airspace designations, under Title 14 Code of Federal Regulations (CFR) part 73, which are established to confine or segregate activities considered hazardous to non-participating aircraft. A MOA is a non-rulemaking type of SUA established to separate or segregate certain non-hazardous military flight activities from aircraft operating in accordance with instrument flight rules (IFR), and to identify for visual flight rules (VFR) pilots where those activities are conducted. IFR aircraft may be routed through an active MOA only when air traffic control can provide approved separation from the MOA activity. VFR pilots are not restricted from flying in an active MOA, but are advised to exercise caution while doing so.

Unlike restricted areas, which are designated through rulemaking procedures, MOAs are non-rulemaking airspace areas that are established administratively and published in the National Flight Data Digest. Normally MOA actions are not published in a NPRM, but instead, are advertised for public comment through a non-rule circular that is distributed by an FAA Service Center office to aviation interests in the affected area. However, when a non-rulemaking action is connected to a rulemaking action, FAA procedures allow for the non-rulemaking action to be included in the Rule. In such cases, the NPRM replaces the non-rule circularization requirement. Because the change to the Silver MOA North was necessary, due to the establishment of the restricted area, the MOA was modified to exclude the airspace contained in R-2502A.

MOA Change

Silver MOA North, CA

Boundaries. Beginning at lat. 35°39′00″ N., long. 115°53′03″ W.; to lat. 35°24′30″ N., long. 115°53′03″ W.; to lat. 35°06′50″ N., long. 116°20′00″ W.; to lat. 35°04′30″ N., long. 116°29′00″ W.; to lat. 35°07′00″ N., long. 116°34′03″ W.; to point of beginning. Excluding the airspace below 3,000 feet AGL within a 3NM radius of the town of Baker, CA (lat. 35°16′00″ N. long. 116°04′33″ W.) and R2502A.

The Rule

The FAA is amending Title 14 CFR part 73 to establish Restricted Area R-2502A at Fort Irwin, CA. The U.S. Army has requested this restricted area because the existing special use airspace does not include the airspace above the expanded land maneuver area created to support the NTC. This action will ensure a safe training environment, isolated from the public, for military air and ground maneuvers from the surface to the upper limits of restricted airspace.

The FAA has determined that this regulation only involves an established body of technical regulations for which frequent and routine amendments are necessary to keep them operationally current. Therefore, this regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

The FAA's authority to issue rules regarding aviation safety is found in Title 49 of the United States Code. Subtitle I, Section 106 describes the authority of the FAA Administrator. Subtitle VII, Aviation Programs, describes in more detail the scope of the agency's authority.

This rulemaking is promulgated under the authority described in Subtitle VII, Part A, Subpart I, Section 40103. Under that section, the FAA is charged with prescribing regulations to assign the use of the airspace necessary to ensure the safety of aircraft and the efficient use of airspace. This regulation is within the scope of that authority as it establishes restricted area airspace at Fort Irwin, CA.

Environmental Review

The FAA has determined that the Environmental Assessment (EA) prepared by the Department of Army associated with the proposed project, is adequate for adoption in accordance with FAA Order 1050.1E, “Environmental Impacts: Policies and Procedures,” Paragraph 404d. The FAA has independently evaluated the information contained in the EA and takes full responsibility for the scope and content that addresses FAA actions. Further, the FAA has issued its own Finding of No Significant Impact (FONSI). The FAA's Adoption of Environmental Assessment and FONSI are combined into a single document dated August 1, 2008. A copy of the Adoption of Environmental Assessment and FONSI document has been inserted into the official docket for this rulemaking.

List of Subjects in 14 CFR Part 73

Airspace, Prohibited areas, Restricted areas.

The Amendment

In consideration of the foregoing, the Federal Aviation Administration amends 14 CFR part 73 as follows:

PART 73—SPECIAL USE AIRSPACE

1. The authority citation for part 73 continues to read as follows:

Authority: 49 U.S.C. 106(g), 40103, 40113, 40120; E.O. 10854, 24 FR 9565, 3 CFR, 1959-1963 Comp., p. 389.

§ 73.25 [Amended]

2. § 73.25 is amended as follows:

* * * * *

R-2502A Fort Irwin, CA [New]

Boundaries. Beginning at lat. 35°25′48″ N., long. 116°18′48″ W.; to lat. 35°25′30″ N., long. 116°09′46″ W.; to lat. 35°23′15″ N., long. 116°09′47″ W.; to lat. 35°06′54″ N., long. 116°30′17″ W.; to lat. 35°07′00″ N., long. 116°34′03″ W.; to lat. 35°18′45″ N., long. 116°18′48″ W. to point of beginning.

Designated altitudes. Surface to 16,000 feet MSL.

Time of designation. Continuous.

Controlling agency. FAA, Hi-Desert TRACON, Edwards, CA.

Using agency. Commander, Fort Irwin, CA.

* * * * *

Issued in Washington, DC, on September 28, 2009.
Edith V. Parish,
Manager, Airspace and Rules Group.

[FR Doc. E9-23879 Filed 10-2-09; 8:45 am]

BILLING CODE 4910-13-P